INTERNATIONAL TRADE COMMISSION

[Inv. Nos. 337-TA-491 and 337-TA-481 (consolidated)]

Certain Display Controllers and Products Containing Same and Certain Display Controllers With Upscaling Functionality and Products Containing Same; Notice of Commission Determinations To Extend the Target Date for Completion of the Investigation and the Deadline for Determining Whether To Review a Final Initial Determination; Notice of Consolidation of Investigations

AGENCY: U.S. International Trade Commission.

ACTION: Notice.

SUMMARY: Notice is hereby given that the U.S. International Trade Commission has determined to extend the target date for completion of Certain Display Controllers and Products Containing Same, Inv. No. 337-TA-491 until August 20, 2004, and to extend the deadline for review of the presiding administrative law judge's (“ALJ's”) final initial determination (“ID”) issued on April 14, 2004, in that investigation until July 6, 2004. The Commission has also determined to consolidate Certain Display Controllers and Products Containing Same, Inv. No. 337-TA-491, with Certain Display Controllers with Upscaling Functionality and Products Containing Same, Inv. No. 337-TA-481.

FOR FURTHER INFORMATION CONTACT: Clara Kuehn, Esq., Office of the General Counsel, U.S. International Trade Commission, 500 E Street, SW., Washington, DC 20436, telephone (202) 205-3012. Copies of all nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted Inv. No. 337-TA-491, Certain Display Controllers and Products Containing Same (“the 491 investigation”), on April 14, 2003, based on a complaint filed on behalf of Genesis Microchip (Delaware) Inc. (“complainant”) of Alviso, Calif. 68 FR 17,964 (Apr. 14, 2003). The complaint, as supplemented, alleged violations of section 337 of the Tariff Act of 1930 in the importation into the United States, sale for importation, and sale within the United States after importation of certain display controllers and products containing same by reason of infringement of claims 13 and 15 of U.S. Patent No. 6,078,361; claims 19-22 of U.S. Patent No. 5,953,074 (“the ’074 patent”); and claims 1 and 9 of U.S. Patent No. 6,177,922 (“the ’922 patent”). The notice of investigation named three respondents: Media Reality Technologies, Inc. of Taipei, Taiwan; Media Reality Technologies, Inc. of Sunnyvale, Calif. (collectively “MRT”); and Trumpion Microelectronics, Inc. (“Trumpion”) of Taipei City, Taiwan. Id.

On June 20, 2003, the ALJ issued an ID (Order No. 5) amending the complaint and notice of investigation to add MStar Semiconductor, Inc. (“MStar”) as a respondent, additional claims of the ’074 patent, and claims 1-3, 5, 6, 9, 12, 13, 16, 17, 33-36, 38, and 39 of U.S. Patent No. 5,739,867. That ID was not reviewed by the Commission. 68 FR 44,967 (July 31, 2003).

On November 10, 2003, the ALJ issued an ID (Order No. 38) granting complainant's motion to terminate the 491 investigation with respect to Trumpion, the ’922 patent, and the ’074 patent. That ID was not reviewed by the Commission.

On January 6, 2004, a tutorial session was held. An evidentiary hearing was held on January 6-15, 20, and February 2-3, 2004. On April 14, 2004, the ALJ issued his final ID, findings of fact and conclusions of law, and recommended determination on remedy and bonding in the 491 investigation.

Complainant Genesis, respondents MRT, MStar, and the Commission investigative attorney each petitioned for review of portions of the final ID. All parties filed responses to the petitions for review. The Commission has determined to extend the deadline for determining whether to review the final ID until July 6, 2004.

The Commission instituted Certain Display Controllers with Upscaling Functionality and Products Containing Same, Inv. No. 337-TA-481 (“the 481 investigation”) on October 18, 2002, based on a complaint filed by Genesis naming Trumpion, Media Reality Technologies, Inc. of Sunnyvale, Calif., and SmartASIC, Inc. of San Jose, Calif. as respondents. 67 FR 64411. On January 14, 2003, the ALJ issued an ID terminating respondent SmartASIC from the investigation on the basis of a settlement agreement. That ID was not reviewed by the Commission. The final ID in the 481 investigation (“the 481 final ID”) issued on October 20, 2003. 68 FR 69719. On December 5, 2003, the Commission determined to review the 481 final ID in part. Id. On review of the 481 final ID, the Commission remanded the 481 investigation to the ALJ. 69 FR 3602 (Jan. 26, 2004). The remand order provided that the ALJ is to issue his findings by May 20, 2004, and set a schedule for the filing by the parties of comments on the ALJ's findings and response comments. The remand order also extended the target date for completion of the 481 investigation to August 20, 2004.

The 481 and 491 investigations are closely related in terms of the products, the parties, and patents involved. Although the 481 investigation was instituted on October 18, 2002, about six months prior to institution of the 491 investigation, due to the remand of the 481 investigation to the ALJ, the two investigations are now on similar time schedules. The Commission has determined to extend the target date for completion of the 491 investigation from July 14, 2004, to the target date for completion of the 481 investigation, i.e., until August 20, 2004, and has also determined to consolidate the two investigations. The parties may include comments on the effect, if any, of such consolidation in their comments on the ALJ's remand findings in Inv. No. 337-TA-481.

The authority for the Commission's determination is contained in section 337 of the Tariff Act of 1930, as amended (19 U.S.C. 1337), and in sections 201.7(a), 210.42(h)(2), and 210.51(a) of the Commission's Rules of Practice and Procedure (19 CFR 201.7(a), 210.42(h)(2), 210.51(a)).

Issued: May 21, 2004.
By order of the Commission.
Marilyn R. Abbott,
Secretary.

[FR Doc. 04-12014 Filed 5-26-04; 8:45 am]

BILLING CODE 7820-02-P